DEPARTMENT OF HEALTH AND HUMAN SERVICES

Administration for Children and Families

Submission for OMB Review; Comment Request

Title: Ethnic Community Self-Help Program Data Indicators.

OMB No.: 0970-NEW.

Description: The ACF Office of Refugee Resettlement proposes to collect information from Ethnic Community-Based Organizations (ECBOs) awarded federal funds under HHS-2016-ACF-ORR-1129. The information, collected through a questionnaire, is expected to provide information on Program objectives semi-annually in order for program staff to gauge the Program's progress for reporting and evaluation purposes.

Respondents: ECBOs awarded under HHS-2016-ACF-ORR-1129.

Annual Burden Estimates
Instrument | Number of respondents | Number of responses per respondent | Average burden hours per response | Total burden hours
ECSH Data Indicators | 10 | 2 | 1 | 20

Estimated Total Annual Burden Hours: 20.

Additional Information: Copies of the proposed collection may be obtained by writing to the Administration for Children and Families, Office of Planning, Research and Evaluation, 330 C Street SW., Washington, DC 20201. Attention Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV. Attn: Desk Officer for the Administration for Children and Families.

Robert Sargis,
Reports Clearance Officer.

[FR Doc. 2016-21250 Filed 9-2-16; 8:45 am]

BILLING CODE 4184-01-P